OFFICE OF SCIENCE AND TECHNOLOGY POLICY

Request for Information; Cislunar Science and Technology Subcommittee

AGENCY: Office of Science and Technology Policy (OSTP).

ACTION: Notice of request for information.

SUMMARY: The White House Office of Science and Technology Policy (OSTP)—on behalf of the Cislunar Science and Technology Subcommittee of the National Science and Technology Council (NSTC)—requests input to help inform development of a national science and technology strategy on U.S. activities in cislunar space. For the purposes of this RFI, cislunar space is defined as the entire region beyond Earth's geostationary orbit still subject to the Earth's and/or Moon's gravity, including orbits around the Moon and the lunar surface. The strategy will include key U.S. government research and development (R&D) priorities and proposed technical standards to enable a robust, cooperative, and sustainable ecosystem in cislunar space.

DATES: Responses must be received by July 20, 2022 to be considered.

ADDRESSES: You may submit comments by any of the following methods:

• Email: cislunar@ostp.eop.gov, include Cislunar RFI in the subject line of the message.

• Mail: Attn: NSTC Cislunar Science & Technology Subcommittee, Office of Science and Technology Policy, Eisenhower Executive Office Building, 1650 Pennsylvania Ave. NW, Washington, DC 20504.

Instructions: Response to this RFI is voluntary. Respondents need not reply to all questions listed. Each individual or institution is requested to submit only one response. Electronic responses must be provided as attachments to an email. It is recommended that attachments with file sizes exceeding 25MB be compressed (i.e. zipped) to ensure message delivery. Please identify your answers by responding to a specific question or topic if possible. Respondents may answer as many or as few questions as they wish. Comments of seven pages or fewer (3,500 words) are requested; longer responses will not be considered.

Any information obtained from this RFI is intended to be used by the Government on a non-attribution basis for planning and strategy development. OSTP will not respond to individual submissions. A response to this RFI will not be viewed as a binding commitment to develop or pursue the project or ideas discussed. This RFI is not accepting applications for financial assistance or financial incentives. Responses to this RFI may be posted without change online. OSTP therefore requests that no proprietary information, copyrighted information, or personally identifiable information be submitted in response to this RFI. Please note that the United States Government will not pay for response preparation, or for the use of any information contained in a response.

FOR FURTHER INFORMATION CONTACT: cislunar@ostp.eop.gov or Matt Daniels at 202-456-4444.

SUPPLEMENTARY INFORMATION: Pursuant to 42 U.S.C. 6617, OSTP is soliciting public input through an RFI to obtain feedback from a wide variety of stakeholders, including individuals, industry, academia, research laboratories, nonprofits, and think tanks. OSTP is specifically interested in public input to inform a national science and technology strategy for U.S. activities in cislunar space, referring to the entire region beyond Earth's geostationary orbit still subject to the Earth's and/or Moon's gravity, including orbits around the Moon and the lunar surface. OSTP seeks response to either or both of the following questions:

1. What research and development should the U.S. government prioritize to help advance a robust, cooperative, and sustainable ecosystem in cislunar space in the next 10 years? And over the next 50 years?

2. What key technical standards are most useful to develop in support of activities in cislunar space, and how could these standards enable and support a vibrant and sustainable cislunar ecosystem?

Dated: June 29, 2022.
Stacy Murphy,
Operations Manager.

[FR Doc. 2022-14316 Filed 7-5-22; 8:45 am]

BILLING CODE 3270-F2-P